ENVIRONMENTAL PROTECTION AGENCY

[FRL-12898-02-R5]

Notice of Final Decision To Reissue the Vickery Environmental, Inc. Land-Ban Exemption

AGENCY: Environmental Protection Agency (EPA).

ACTION: Notice of final decision on a request by Vickery Environmental, Inc. of Vickery, Ohio to reissue its exemption from the Hazardous and Solid Waste Amendments of the Resource Conservation and Recovery Act.

SUMMARY: Notice is hereby given by the U.S. Environmental Protection Agency (EPA) that an exemption to the land disposal restrictions under the 1984 Hazardous and Solid Waste Amendments (HSWA) to the Resource Conservation and Recovery Act (RCRA) has been granted to Vickery Environmental, Inc. (VEI) of Vickery, Ohio for five Class I injection wells located in Vickery, Ohio. As required by Title 40 of the Code of Federal Regulations, VEI has demonstrated, to a reasonable degree of certainty, that there will be no migration of hazardous constituents out of the injection zone or into an underground source of drinking water (USDW) for at least 10,000 years. This final decision allows the continued underground injection by VEI of only those hazardous wastes designated by the codes in Table 1 through its five Class I hazardous waste injection wells identified as #2, #4, #5, #6, and #8. This decision constitutes a final EPA action for which there is no administrative appeal.

DATES: This action is effective as of July 31, 2025.

FOR FURTHER INFORMATION CONTACT: Kaelyn Quinlan, Lead Petition Reviewer, EPA, Region 5, Water Division, Underground Injection Control Section, WP-16J, 77 W. Jackson Blvd., Chicago, Illinois 60604-3590; telephone number: (312) 886-7188; email address: quinlan.kaelyn@epa.gov. Copies of the petition and all pertinent information are on file and are part of the Administrative Record. Please contact the lead reviewer if you wish to review the Administrative Record.

SUPPLEMENTARY INFORMATION: VEI submitted a request for reissuance of its existing exemption from the land disposal restrictions of hazardous waste in June 2022. EPA reviewed all data pertaining to the petition, including, but not limited to, well construction, well operations, regional and local geology, seismic activity, penetrations of the confining zone, and computational models of the injection zone. EPA has determined that the hydrogeological and geochemical conditions at the site and the nature of the waste streams are such that reliable predictions can be made that fluid movement conditions are such that injected fluids will not migrate out of the injection zone within 10,000 years, as set forth at 40 CFR 148.20(a)(1)(i). The injection zone includes the injection interval into which fluid is directly emplaced and the overlying arrestment interval into which it may diffuse. The injection interval for the VEI facility is composed of the Mt. Simon Sandstone between 2,791 and 2,950 feet below ground level (bgl). The arrestment interval for the VEI facility is composed of the Rome, Conasauga, Kerbel, and Knox Formations between 2,360 and 2,791 feet bgl. The confining zone at the VEI facility is composed of the Black River and Wells Creek Formations between 1,816 and 2,360 feet bgl. The confining zone is separated from the lowermost underground source of drinking water (at a depth of 602 feet bgl) by a sequence of permeable and less permeable sedimentary rocks. This sequence provides additional protection from fluid migration into drinking water sources.

EPA issued a draft decision, which described the reasons for granting this exemption in more detail, a fact sheet, which summarized these reasons, and a public notice on January 18, 2025, pursuant to 40 CFR 124.10. The public comment period ended on February 18, 2025. EPA received five comments during the comment period. EPA has prepared a response to the comments, which can be viewed at the following URL: https://www.epa.gov/node/88753#public-notices. This document is part of the Administrative Record for this decision.

Conditions

This exemption is subject to the following conditions. Non-compliance with any of these conditions is grounds for termination of the exemption:

(1) The exemption applies to the five existing hazardous waste injection wells, #2, #4, #5, #6, and #8 located at the VEI facility at 3956 State Route 412, Vickery, Ohio.

(2) Injection of restricted hazardous waste is limited to the part of the Mt. Simon Sandstone at depths between 2791 and 2950 feet below the surface level.

(3) Only restricted wastes designated by the RCRA waste codes found in Table 1 may be injected.

(4) Maximum concentrations of chemicals that are allowed to be injected are listed in Table 2.

(5) The average specific gravity of the injected waste stream must be no less than 1.08 over a one-year period.

(6) VEI may inject up to a combined total of 240 gallons per minute into Well #2, #4, #5, #6, and #8, based on a monthly average.

(7) This exemption is approved for the 20-year modeled injection period, which ends on June 30, 2027. VEI may petition EPA for a reissuance of the exemption beyond that date, provided that a new and complete petition and no-migration demonstration is received at EPA, Region 5, by January 31, 2027.

(8) VEI must submit, within 90 days after the exemption is granted, an approvable plan to demonstrate that chemicals listed in Table 2 are not or cannot be injected above the listed limits. Upon EPA's approval of this plan, VEI shall implement the plan per the schedule in the approved plan.

(9) VEI must submit copies of the reports on the annual bottom-hole pressure surveys conducted in wells #2, #4, #5, #6, and #8 to EPA when these reports are submitted to the Ohio Environmental Protection Agency (Ohio EPA). The reports must include a comparison of reservoir parameters determined from the fall-off test, such as permeability and long-term shut-in pressure, with parameters used in the approved no-migration petition.

(10) VEI must submit copies of the reports on the annual radioactive tracer surveys and annulus pressure tests for wells #2, #4, #5, #6, and #8 to EPA when these reports are submitted to Ohio EPA.

(11) VEI shall notify EPA in writing if any injection well loses mechanical integrity, prior to any workover or plugging when these notifications are submitted to Ohio EPA.

(12) The petitioner must fully comply with all requirements set forth in Underground Injection Control Permits 03-72-009-PTO-I, 03-72-011-PTO-I, 03-72-012-PTO-I, 03-72-013-PTO-I, and 03-72-014-PTO-I issued by Ohio EPA.

(13) Upon the expiration, cancellation, reissuance, or modification of the permits referenced above, this exemption is subject to review.

(14) Whenever EPA determines that the basis for approval of a petition under 40 CFR 148.23 and 148.24 may no longer be valid, EPA may terminate this exemption and will require a new demonstration in accordance with 40 CFR 148.20.

Table 1—List of RCRA Waste Codes Approved for Injection
D001 | D002 | D003 | D004 | D005 | D006 | D007 | D008 | D009 | D010 | D011 | D012
D013 | D014 | D015 | D016 | D017 | D018 | D019 | D020 | D021 | D022 | D023 | D024
D025 | D026 | D027 | D028 | D029 | D030 | D031 | D032 | D033 | D034 | D035 | D036
D037 | D038 | D039 | D040 | D041 | D042 | D043 | F001 | F002 | F003 | F004 | F005
F006 | F007 | F008 | F009 | F010 | F011 | F012 | F019 | F020 | F021 | F022 | F023
F024 | F025 | F026 | F027 | F028 | F032 | F034 | F035 | F037 | F038 | F039 | K001
K002 | K003 | K004 | K005 | K006 | K007 | K008 | K009 | K010 | K011 | K013 | K014
K015 | K016 | K017 | K018 | K019 | K020 | K021 | K022 | K023 | K024 | K025 | K026
K027 | K028 | K029 | K030 | K031 | K032 | K033 | K034 | K035 | K036 | K037 | K038
K039 | K040 | K041 | K042 | K043 | K044 | K045 | K046 | K047 | K048 | K049 | K050
K051 | K052 | K060 | K061 | K062 | K069 | K071 | K073 | K083 | K084 | K085 | K086
K087 | K088 | K093 | K094 | K095 | K096 | K097 | K098 | K099 | K100 | K101 | K102
K103 | K104 | K105 | K106 | K107 | K108 | K109 | K110 | K111 | K112 | K113 | K114
K115 | K116 | K117 | K118 | K123 | K124 | K125 | K126 | K131 | K132 | K136 | K140
K141 | K142 | K143 | K144 | K145 | K147 | K148 | K149 | K150 | K151 | K156 | K157
K158 | K159 | K161 | K169 | K170 | K171 | K172 | K174 | K175 | K176 | K177 | K178
K181 | P001 | P002 | P003 | P004 | P005 | P006 | P007 | P008 | P009 | P010 | P011
P012 | P013 | P014 | P015 | P016 | P017 | P018 | P020 | P021 | P022 | P023 | P024
P026 | P027 | P028 | P029 | P030 | P031 | P033 | P034 | P036 | P037 | P038 | P039
P040 | P041 | P042 | P043 | P044 | P045 | P046 | P047 | P048 | P049 | P050 | P051
P054 | P056 | P057 | P058 | P059 | P060 | P062 | P063 | P064 | P065 | P066 | P067
P068 | P069 | P070 | P071 | P072 | P073 | P074 | P075 | P076 | P077 | P078 | P081
P082 | P084 | P085 | P087 | P088 | P089 | P092 | P093 | P094 | P095 | P096 | P097
P098 | P099 | P101 | P102 | P103 | P104 | P105 | P106 | P108 | P109 | P110 | P111
P112 | P113 | P114 | P115 | P116 | P118 | P119 | P120 | P121 | P122 | P123 | P127
P128 | P185 | P188 | P189 | P190 | P191 | P192 | P194 | P196 | P197 | P198 | P199
P201 | P202 | P203 | P204 | P205 | U001 | U002 | U003 | U004 | U005 | U006 | U007
U008 | U009 | U010 | U011 | U012 | U014 | U015 | U016 | U017 | U018 | U019 | U020
U021 | U022 | U023 | U024 | U025 | U026 | U027 | U028 | U029 | U030 | U031 | U032
U033 | U034 | U035 | U036 | U037 | U038 | U039 | U041 | U042 | U043 | U044 | U045
U046 | U047 | U048 | U049 | U050 | U051 | U052 | U053 | U055 | U056 | U057 | U058
U059 | U060 | U061 | U062 | U063 | U064 | U066 | U067 | U068 | U069 | U070 | U071
U072 | U073 | U074 | U075 | U076 | U077 | U078 | U079 | U080 | U081 | U082 | U083
U084 | U085 | U086 | U087 | U088 | U089 | U090 | U091 | U092 | U093 | U094 | U095
U096 | U097 | U098 | U099 | U101 | U102 | U103 | U105 | U106 | U107 | U108 | U109
U110 | U111 | U112 | U113 | U114 | U115 | U116 | U117 | U118 | U119 | U120 | U121
U122 | U123 | U124 | U125 | U126 | U127 | U128 | U129 | U130 | U131 | U132 | U133
U134 | U135 | U136 | U137 | U138 | U139 | U140 | U141 | U142 | U143 | U144 | U145
U146 | U147 | U148 | U149 | U150 | U151 | U152 | U153 | U154 | U155 | U156 | U157
U158 | U159 | U160 | U161 | U162 | U163 | U164 | U165 | U166 | U167 | U168 | U169
U170 | U171 | U172 | U173 | U174 | U176 | U177 | U178 | U179 | U180 | U181 | U182
U183 | U184 | U185 | U186 | U187 | U188 | U189 | U190 | U191 | U192 | U193 | U194
U196 | U197 | U200 | U201 | U202 | U203 | U204 | U205 | U206 | U207 | U208 | U209
U210 | U211 | U213 | U214 | U215 | U216 | U217 | U218 | U219 | U220 | U221 | U222
U223 | U225 | U226 | U227 | U228 | U234 | U235 | U236 | U237 | U238 | U239 | U240
U243 | U244 | U246 | U247 | U248 | U249 | U271 | U278 | U279 | U280 | U328 | U353
U359 | U364 | U367 | U372 | U373 | U387 | U389 | U394 | U395 | U404 | U409 | U410
U411 |  |  |  |  |  |  |  |  |  |  |

Table 2—Maximum Concentrations of Chemical Contaminants That Are Hazardous at Less Than One Part per Billion
Chemical constituent | Health based limit (mg/L) | Maximum allowable initial concentration (mg/L) | Vickery limit (%)
Acetyl chloride | 2.00E-04 | 2.00E+05 | 20
Acrylamide (2-Propenamide) | 8.00E-06 | 8.00E+03 | 0.80
Acrylonitrile (2-Propenenitrile or Vinyl Cyanide) | 6.00E-05 | 6.00E+04 | 6.00
Aldrin | 2.00E-07 | 2.00E+02 | 0.02
Allyl Chloride (3-chloroprop(yl)ene) | 3.00E-05 | 3.00E+04 | 3.00
Bendiocarb (2,2-Dimethyl-1,3-benzodioxol methylcarbamate) | 3.00E-04 | 3.00E+05 | 30
Benzal chloride | 2.00E-05 | 2.00E+04 | 2.0
Benz[a]anthracene (1,2-Benzanthracene) | 1.30E-04 | 1.30E+05 | 13
Benzidine | 2.00E-07 | 2.00E+02 | 0.02
Benzo[b]fluoranthene | 1.80E-04 | 1.80E+05 | 18
Benzo[k]fluoranthene | 1.70E-04 | 1.70E+05 | 17
Benzo[g,h,I]-perylene | 7.60E-04 | 7.60E+05 | 76
Benzo[a]pyrene | 2.00E-04 | 2.00E+05 | 20
Benzotrichloride | 3.00E-06 | 3.00E+03 | 0.30
Benzyl chloride ((Chloromethyl)benzene) | 2.00E-04 | 2.00E+05 | 20
alpha BHC (see Lindane) alpha-hexachlorocyclohexane | 6.00E-06 | 6.00E+03 | 0.60
beta BHC (see Lindane) beta-hexachlorocyclohexane | 2.00E-05 | 2.00E+04 | 2
delta BHC (see Lindane) delta-hexachlorocyclohexane | 2.00E-04 | 2.00E+05 | 20
Bromoacetone (1-Bromo-2-propanone) | 3.00E-05 | 3.00E+04 | 3
Bromodichloromethane (Trihalomethane) | 6.00E-04 | 6.00E+05 | 60
Brucine (2,3-Dimethoxystrychnidin-10-one) | 3.00E-04 | 3.00E+05 | 30
Carbendazim (1H-benzimidazol-2-yl carbamic acid methyl ester) | 4.00E-04 | 4.00E+05 | 40
Carbon oxyfluoride | 5.00E-04 | 5.00E+05 | 50
Chlorinated fluorocarbons, not otherwise specified | 5.00E-04 | 5.00E+05 | 50
Chloroacetaldehyde | 5.90E-04 | 5.90E+05 | 59
Chlorodibromomethane | 4.00E-04 | 4.00E+05 | 40
Chloroethers | 3.00E-05 | 3.00E+04 | 3
2-Chloroethyl vinyl ether | 3.00E-05 | 3.00E+04 | 3
Chloromethyl methyl ether | 3.00E-05 | 3.00E+04 | 3
Chloroprene | 3.00E-05 | 3.00E+04 | 3
m-Cumenyl methylcarbamate | 3.00E-04 | 3.00E+05 | 30
Cyclohexane | 9.00E-05 | 9.00E+04 | 9
2,4-Dichlorophenoxyacetic acid (2,4-D), salts, esters | 2.00E-04 | 2.00E+05 | 20
p,p′-Dichlorodipheyldichloroethane (p,p′-DDD) | 1.00E-04 | 1.00E+05 | 10
p,p′-Dichlorodipheyldichloroethylene (p,p′-DDE) | 1.00E-04 | 1.00E+05 | 10
p,p′-Dichlorodiphehylotrichloroethane (p,p′-DDT) | 1.00E-04 | 1.00E+05 | 10
Dibenz[a,h]anthracene | 3.00E-04 | 3.00E+05 | 30
Dibromochloropropane | 2.00E-04 | 2.00E+05 | 20
2,3-Dibromo-1-propanol phosphate(3:1) | 3.00E-04 | 3.00E+05 | 30
Dichlorobenzene | 2.00E-04 | 2.00E+05 | 20
3,3'-Dichlorobenzidine | 8.00E-05 | 8.00E+04 | 8
sym-Dichloroethyl ether | 3.00E-05 | 3.00E+04 | 3
sym-Dichloromethyl ether | 1.60E-07 | 1.60E+02 | 0.016
Dichloropropane | 6.00E-05 | 6.00E+04 | 6
Dichloropropanol | 6.00E-05 | 6.00E+04 | 6
Dichloropropene | 3.00E-05 | 3.00E+04 | 3
cis-1,3-Dichloropropene | 3.00E-05 | 3.00E+04 | 3
trans-1,3-Dichloropropene | 3.00E-05 | 3.00E+04 | 3
Dieldrin | 2.00E-06 | 2.00E+03 | 0.2
Diethylene glycol, dicarbamate | 3.00E-04 | 3.00E+05 | 30
O,O-Diethyl O-pyrazinyl phosphorothioate | 4.00E-04 | 4.00E+05 | 40
Dimetilan | 3.00E-04 | 3.00E+05 | 30
2,6-Dinitrotoluene | 3.10E-04 | 3.10E+05 | 31
Di-n-octyl phthalate | 4.90E-04 | 4.90E+05 | 49
Di-n-propylnitrosamine | 5.00E-06 | 5.00E+03 | 0.5
1,2-Diphenylhydrazine | 5.00E-05 | 5.00E+04 | 5
Dithiocarbamates (total) | 9.00E-04 | 9.00E+05 | 90
Ethylene dibromide | 5.00E-05 | 5.00E+04 | 5
Ethylidene chloride | 7.00E-04 | 7.00E+05 | 70
Famphur | 3.00E-04 | 3.00E+05 | 30
Fluoroacetic acid, sodium salt | 7.00E-04 | 7.00E+05 | 70
Formetanate hydrochloride | 3.00E-04 | 3.00E+05 | 30
Formparanate | 3.00E-04 | 3.00E+05 | 30
Heptachlor (and its epoxide) | 2.00E-04 | 2.00E+05 | 20
1,2,3,4,6,7,8-Heptachlorodibenzofuran | 2.50E-05 | 2.50E+04 | 2.5
1,2,3,4,7,8,9-Heptachlorodibenzofuran | 2.50E-05 | 2.50E+04 | 2.5
1,2,3,4,6,7,8-Heptachlorodibenzo-p-dioxin | 2.50E-05 | 2.50E+04 | 2.5
Hexachlorobutadiene | 5.00E-04 | 5.00E+05 | 50
Hexachlorodibenzo-p-dioxins | 2.50E-05 | 2.50E+04 | 2.5
Hexaethyl tetraphosphate | 4.00E-04 | 4.00E+05 | 40
Hydrazine | 1.00E-05 | 1.00E+04 | 1
Indeno[1,2,3-cd] pyrene | 4.30E-04 | 4.30E+05 | 43
Isolan | 3.00E-04 | 3.00E+05 | 30
Lindane (1,2,3,4,5,6-hexa-chlorocyclohexane, gamma isomer) | 2.00E-04 | 2.00E+05 | 20
Manganese dimethyldithiocarbamate | 9.00E-04 | 9.00E+05 | 90
Mercury fulminate | 1.00E-04 | 1.00E+05 | 10
Methiocarb | 5.00E-04 | 5.00E+05 | 50
Methyl chlorocarbonate | 5.90E-04 | 5.90E+05 | 59
Metolcarb | 3.00E-04 | 3.00E+05 | 30
N-methyl-N′-nitro-N-nitroso-guanidine (MNNG) | 1.50E-04 | 1.50E+05 | 15
Naphthalene | 6.00E-04 | 6.00E+05 | 60
p-Nitrophenol | 1.30E-04 | 1.30E+05 | 13
N-Nitrosodiethanolamine | 1.00E-05 | 1.00E+04 | 1
N-Nitrosodiethylamine | 2.00E-07 | 2.00E+02 | 0.02
N-Nitrosodimethylamine | 7.00E-07 | 7.00E+02 | 0.07
N-Nitrosodi-n-butylamine | 6.00E-06 | 6.00E+03 | 0.6
N-Nitrosomethylethylamine | 2.00E-06 | 2.00E+03 | 0.2
N-Nitrosomethylvinylamine | 1.50E-04 | 1.50E+05 | 15
N-Nitroso-N-methylurea | 1.50E-04 | 1.50E+05 | 15
N-Nitroso-N-methlurethane | 1.50E-04 | 1.50E+05 | 15
N-Nitrosopyrrolidine | 2.00E-05 | 2.00E+04 | 2
1,2,3,4,6,7,8,9-Octachlorodibenzofuran | 5.00E-05 | 5.00E+04 | 5
1,2,3,4,6,7,8,9-Octachlorodibenzo-p-dioxin | 5.00E-05 | 5.00E+04 | 5
Parathion | 6.00E-04 | 6.00E+05 | 60
Pebulate | 8.00E-04 | 8.00E+05 | 80
Pentachlorodibenzofurans, total | 2.50E-05 | 2.50E+04 | 2.5
Pentachlorodibenzo-p-dioxin, total | 2.50E-05 | 2.50E+04 | 2.5
Pentachlorophenols and their chlorophenoxy derivitive acids, esters amines and salts | 7.60E-05 | 7.60E+04 | 7.6
1,3-Pentadiene | 3.00E-05 | 3.00E+04 | 3
Phorate | 3.00E-04 | 3.00E+05 | 30
Phosgene | 2.00E-04 | 2.00E+05 | 20
Phosphorithioic and phosphordithioic acid esters | 3.00E-04 | 3.00E+05 | 30
Physostigmine | 3.00E-04 | 3.00E+05 | 30
Physostigmine salicylate | 3.00E-04 | 3.00E+05 | 30
Polychlorinated Biphenyls | 5.00E-04 | 5.00E+05 | 50
Prosulfocarb | 6.00E-04 | 6.00E+05 | 60
Reserpine | 3.00E-04 | 3.00E+05 | 30
Streptozotocin | 1.50E-04 | 1.50E+05 | 15
Sulfur phosphide | 3.00E-04 | 3.00E+05 | 30
Tars | 3.00E-04 | 3.00E+05 | 30
Tetrachlorodibenzofurans | 1.00E-05 | 1.00E+04 | 1
Tetrachlorodibenzo-p-dioxins | 3.00E-08 | 3.00E+01 | 0.003
1,1,2,2-Tetrachloroethane | 2.00E-04 | 2.00E+05 | 20
Tetraethyl lead | 3.50E-06 | 3.50E+03 | 0.35
Thiodicarb | 3.00E-04 | 3.00E+05 | 30
Thiofanox | 3.00E-04 | 3.00E+05 | 30
Tirpate | 3.00E-04 | 3.00E+05 | 30
Trichlorobenzene | 1.20E-04 | 1.20E+05 | 12
Trichloromethanethiol | 2.00E-04 | 2.00E+05 | 20
Triethylamine | 5.00E-04 | 5.00E+05 | 50

Electronic Access. You may access this Federal Register document electronically from the Government Printing Office under the Federal Register listings at https://www.govinfo.gov/app/collection/FR/.

Authority: Section 3004 of the Resource Conservation and Recovery Act, 42 U.S.C. 6924, and the federal regulations implementing the relevant portions of Section 3004 of the Act set forth at 40 CFR part 148.

Darren S. Ireland,
Acting Director, Water Division.

[FR Doc. 2025-14473 Filed 7-30-25; 8:45 am]

BILLING CODE 6560-50-P